DEPARTMENT OF COMMERCE

National Oceanic and Atmospheric Administration

50 CFR Parts 600 and 660

[Docket No. 991223347-9347; I.D. 071200C]

Fisheries off West Coast States and in the Western Pacific; Pacific Coast Groundfish Fishery; Trip Limit Adjustments

AGENCY: National Marine Fisheries Service (NMFS), National Oceanic and Atmospheric Administration (NOAA), Commerce.

ACTION: Fishing restrictions; request for comments.

SUMMARY: NMFS announces changes to trip limits in the Pacific Coast groundfish fishery and the season dates for the limited entry, fixed gear sablefish fishery. These actions, which are authorized by the Pacific Coast Groundfish Fishery Management Plan (FMP), are intended to help the fisheries achieve optimum yield (OY).

DATES: Changes to management measures are effective 0001 hours local time (l.t.) July 18, 2000, except that changes to management measures for minor shelf rockfish and lingcod are effective 0001 hours l.t. August 1, 2000, unless modified, superseded, or rescinded. These changes are in effect until the effective date of the 2001 annual specifications and management measures for the Pacific coast groundfish fishery, which will be published in the Federal Register. Comments on this rule will be accepted through August 7, 2000.

ADDRESSES: Submit comments to William Stelle, Jr., Administrator, Northwest Region (Regional Administrator), NMFS, 7600 Sand Point Way NE., BIN C15700, Bldg. 1, Seattle, WA 98115-0070 or to Rodney McInnis, Acting Administrator, Southwest Region, NMFS, 501 West Ocean Blvd., Suite 4200, Long Beach, CA 90802-4213.

FOR FURTHER INFORMATION CONTACT: Yvonne deReynier or Katherine King (Northwest Region, NMFS) 206-526-6140.

SUPPLEMENTARY INFORMATION: The following changes to current management measures were recommended by the Pacific Fishery Management Council (Council,) in consultation with the States of Washington, Oregon, and California, at its June 27-30, 2000, meeting in Portland, OR. Pacific coast groundfish landings will be monitored throughout the year, and further adjustments to the trip limits will be made as necessary to stay within the OYs and allocations announced in the annual specifications and management measures for the groundfish fishery, published in the Federal Register (65 FR 221, January 4, 2000, as amended at 65 FR 17805, April 5, 2000; 65 FR 25881, May 4, 2000; 65 FR 31283, May 17, 2000; and 65 FR 33423, May 23, 2000). Unless otherwise specified, these changes are effective through October 31, 2000. At its September meeting, the Council will consider whether changes recommended for August through October should apply also to the November and December fishing periods. If the Council does not recommend changes at that meeting, the trip limits that have already been published for those periods (January 4, 2000, 65 FR 221; May 17, 2000, 65 FR 31283) will remain in effect.

Yellowtail Rockfish Taken in Limited Entry Trawl Fisheries for Flatfish; New Trip Limit for Arrowtooth Flounder

At the June 27-30, 2000, Council meeting, the Council and its advisory entities heard testimony from commercial trawlers that the current combination of yellowtail rockfish and flatfish landings limits and gear requirements were resulting in yellowtail rockfish discard. Under year 2000 management measures, most flatfish taken with small footrope trawl (8 inches, 20 cm, or less in diameter) have no landings limits. Historically, landings for most flatfish have not been restricted because the fisheries have not achieved the acceptable biological catches for those species. To protect non-flatfish species associated with targeted flatfish on the continental shelf, the 2000 management measures encouraged use of small footrope trawls by prohibiting flatfish landings (except Dover and rex soles) taken with large footrope trawl (greater than 8 inches, 20 cm, in diameter). In May, the limits were modified to allow 400 lb (181 kg) of flatfish per trip (excluding Dover and rex soles) with large footrope trawls.

Landings of yellowtail rockfish are lower than expected for this fishery. Yellowtail rockfish may not be landed by vessels fishing with large footrope trawl, and the small footrope bottom trawl limits has been at 1,500 lb (680 kg) per month since the beginning of the year. This is a low limit for this relatively abundant species, which was set to protect overfished species that associate with yellowtail rockfish. By contrast, midwater trawl limits for yellowtail rockfish were higher, at 10,000 lb (4,536 kg) per 2-month period in January through April and at 30,000 lb (13,608 kg) per 2-month period, May through October; overfished species are not vulnerable to midwater trawl gear.

During the summer months, yellowtail rockfish tend to move away from their rockier habitats and associate more closely with flatfish. This seasonal migration, in combination with a low yellowtail rockfish small footrope trawl limit, has resulted in yellowtail rockfish discards for fishers targeting both flatfish and yellowtail rockfish. Trawlers currently use small footrope bottom trawl gear to target the more liberal flatfish limits, but may keep only 1,500 lb (680 kg) of incidentally caught yellowtail rockfish. Any incidentally caught yellowtail rockfish above the 1,500 lb (680 kg) limit is discarded. Trawlers may switch to midwater gear to directly target yellowtail, so as to achieve the 30,000 lb (13,608 kg) landings limit.

To make yellowtail rockfish and flatfish management more consistent with natural catch association patterns and to reduce discards of yellowtail rockfish taken with small footrope bottom trawl gear, the Council recommended a new “per trip” limit for yellowtail rockfish taken with small footrope bottom trawl gear equivalent to the sum of 33 percent (by weight) of all flatfish except arrowtooth flounder, plus 10 percent (by weight) of arrowtooth flounder, not to exceed 7,500 lb (3,402 kg,) per trip and not to exceed 30,000 lb (13,608 kg) per 2-month period. This limit prevents direct yellowtail targeting with small footrope bottom trawl gear by restricting all bottom trawl landings of yellowtail rockfish to vessels that also land flatfish. This change is expected to reduce yellowtail rockfish discard by making the management measures more reflective of summer groundfish catch associations while discouraging fishing patterns that would take overfished species. With these protections, the Council could justify recommending an increase in the small footrope trawl 2-month cumulative limit to the same level as the current midwater trawl limit.

In a separate action, the Council recommended increasing the arrowtooth flounder large footrope bottom trawl per trip limit from 400 lb (181 kg) to 5,000 lb (2,268 kg) to accommodate incidental catch in the deeper water fisheries for sablefish, Dover sole, and thornyheads, primarily on the continental slope. Arrowtooth flounder are not a high-value species, and this limit is not expected to increase targeted effort on that species.

Limited Entry Fixed Gear and Open Access Minor Nearshore Rockfish

Minor nearshore rockfish landings in both the limited entry fixed gear and open access fisheries have been low during the first half of 2000. The best available information at the June Council meeting indicated that limited entry fixed gear fisheries had landed 5.2 percent of the allocation for that fishery north of 40°10′ N. lat. and 13.2 percent of the allocation for that fishery south of 40°10′ N. lat. through May 31, 2000. Similarly, the best available information at that meeting also indicated that open access fisheries had landed 14.5 percent of the allocation for that fishery north of 40°10′ N. lat. and 6.4 percent of the allocation for that fishery south of 40°10′ N. lat. To allow fisheries access to these stocks without exceeding 2000 OYs, the Council recommended significant increases to the minor nearshore rockfish landings limits for these two fisheries.

North of 40°10′ N. lat. and starting with the July-August period, the limited entry minor nearshore rockfish fixed gear limit increases from 3,000 lb (1,361 kg) to 5,000 lb (2,268 kg) per 2-month period, and the sublimit for minor nearshore rockfish other than blue or black rockfish increases from 1,400 lb (635 kg) to 1,800 lb (816 kg.) South of 40°10′ N. lat. and starting with the July-August period, the limited entry minor nearshore rockfish fixed gear limit increases from 1,300 lb (590 kg) to 2,000 lb (907 kg) per 2-month period. North of 40°10′ N. lat. and starting with the July-August period, the open access minor nearshore rockfish limit would double from 1,500 lb (680 kg) to 3,000 lb (1,361 kg) per 2-month period, and the sublimit for minor nearshore rockfish other than blue or black rockfish increases from 700 lb (318 kg) to 900 lb (408 kg.) South of 40°10′ N. lat. and starting with the July-August period, the open access minor nearshore rockfish limit doubles from 800 lb (363 kg) to 1,600 lb (726 kg) per 2-month period. With the new management strategies implemented in 2000, it is difficult to predict the effect on industry. Increases in the nearshore rockfish limits increase the risk of reaching an allocation or OY before the end of the year and may result in early closures of the minor nearshore rockfish fishery in the north.

Limited Entry Trawl and Fixed Gear Minor Shelf Rockfish South of 40°10′ N. lat.

The limited entry minor shelf rockfish landings for trawl and fixed gear south of 40°10′ N. lat. were slow in January-April partly because fixed gear shelf rockfish landings were closed south of 36° N. lat. in January-February, and closed between 40°10′ N. lat. and 36° N. lat. in March-April. Shelf rockfish landings rose in May, and by the end of May the fleet had taken 5.0 percent of the limited entry minor shelf rockfish allocation. Although the overall minor shelf rockfish landings are low, the Council had concerns about shelf rockfish fisheries intercepting bocaccio, an overfished stock. Bocaccio is managed under an overfished species rebuilding plan and is caught incidentally in commercial and recreational fisheries targeting many other different species.

The best available information at the June 2000 Council meeting indicated that the recreational fisheries have exceeded the 45 mt of bocaccio estimated for recreational landings in 2000. In order to protect bocaccio from excess incidental harvest in the commercial fishery, the Council recommended decreasing the limited entry minor shelf rockfish monthly limit for both trawl and fixed gear from 1,000 lb (454 kg) to 500 lb (227 kg) per month effective August 1, 2000. (An earlier effective date would not reduce fishing mortality because most fishers would have taken the July limit of 1,000 lb (454 kg) before this notice would take effect.)

Recreational bocaccio landings occur almost exclusively in California. The State has agreed to ask its Fish and Game Commission, which sets recreational fishing policies in State waters (0-3 nm offshore), to make inseason changes that further reduce recreational fishing pressure on overfished species (bocaccio, lingcod, canary rockfish, cowcod). This may include prohibiting landings of bocaccio taken in State waters for the remainder of 2000. The Council also asked NMFS to coordinate with the State of California to implement consistent changes to recreational rockfish fishery management measures in Federal waters (3-200 nm offshore).

Limited Entry Trawl and Fixed Gear, and Open Access Minor Slope Rockfish South of 40°10′ N. lat.

As with nearshore and shelf rockfish, minor slope rockfish landings south of 40°10′ N. lat. have been slow in the first half of 2000. The best available information at the June Council meeting indicated that limited entry fisheries south of 40°10′ N. lat. had landed 10.1 percent of slope rockfish set aside for those fisheries and that open access fisheries had landed only 1.0 percent of their minor slope rockfish allocation through the end of May 2000. Given these low landings rates, the Council recommended increasing cumulative landings limits to levels that would allow higher landings without jeopardizing overfished and depleted stocks. The Council recommended increasing the limited entry minor slope rockfish cumulative landings limit for both trawl and fixed gear south of 40°10′ N. lat. from 5,000 lb (2,268 kg) to 7,000 lb (3,175 kg) per 2-month period. The Council also recommended increasing the open access, minor slope rockfish cumulative landings limit south of 40°10′ N. lat. from 500 lb (227 kg) to 1,000 lb (454 kg) per 2-month period.

Open Access Fishery for Lingcod to Close August 1, 2000

The best available information at the June Council meeting indicated that the open access fishery will achieve its lingcod allocation before the end of July. This fishery was closed January through April and was scheduled to be closed in November and December, following a 400 lb (181 kg) monthly cumulative limit in May through October 2000. Lingcod is an overfished species managed under a rebuilding plan. To eliminate further open access lingcod landings for the rest of the year, the Council recommended closing open access lingcod landings from August 1 through the end of the year. This closure also applies to vessels in the pink shrimp trawl fishery.

Limited Entry, Fixed Gear and Open Access Daily Trip Limit Fisheries for Sablefish North of 36° N. lat.

Daily trip limit sablefish landings in both the 2000 limited entry fixed gear and the open access fisheries have been relatively low through the spring months. The best available information at the June Council meeting indicated that limited entry fixed gear fisheries had landed 11.9 percent of the sablefish set aside for small daily landings and that the open access fisheries had landed 7.0 percent of their sablefish allocation, both of which are taken under the small landings limit of 300 lb (136 kg) per day. To allow fisheries access to sablefish allocations during the more active summer fishing months, the Council recommended increasing the sablefish 2-month cumulative landings limits for both limited entry and open access fisheries north of 36° N. lat. from 2,400 lb (1,089 kg) to 3,300 lb (1,497 kg.) The 300 lb (136 kg) per day landings limit would remain in effect.

Limited Entry, Fixed Gear, Regular Sablefish Fishery

At its June 2000 meeting, the Council considered season structure options for the 2000 limited entry, fixed gear regular sablefish fishery. For 2000, the Council recommended that the regular season begin on August 6, 2000, at noon l.t. and last for 9 days, ending at noon on August 15, 2000. There will be no limited entry, daily trip limit fishery for sablefish taken with fixed gear during the regular season. During the regular season, each vessel with a limited entry permit and a sablefish endorsement that is registered for use with that vessel may land up to the cumulative trip limit for the tier to which the permit is assigned. The Council recommended the following tier limits: Tier 1, 81,000 lb (36,741 kg); Tier 2, 37,000 lb (16,783 kg); Tier 3, 21,000 lb (9,525 kg). These tier limits are expected to keep the overall fleet landings from exceeding the 2065.5 mt of sablefish available to this fishery.

The pre-season and post-season closures described for this fishery at 50 CFR 660.323 (a)(2) will be in effect. The pre-season closure will begin on August 4, 2000, at noon l.t., last for 48 hours, and end when the regular season begins on August 6, 2000, at noon l.t. During the pre-season closure, sablefish taken with fixed gear in the limited entry or open access fisheries north of 36° N. lat. may not be retained or landed. Also during the pre-season closure, all fixed gear used to take and retain groundfish must be out of the water. The post-season closure will begin when the regular season ends on August 15, 2000, at noon l.t., last for 30 hours, and end on August 16, 2000, at 1800 hours l.t. No sablefish taken with fixed gear north of 36° N. lat. during the post-season closure may be retained. Sablefish taken and retained during the regular season may be possessed and landed during the post-season closure, and gear may remain in the water during the post-season closure. However, during the post-season closure, fishers may not set or pull from the water fixed gear used to take and retain groundfish.

Fixed Gear Permit Transfers

Under 50 CFR 660.333, limited entry permits may not be transferred more than once every 12 months, and permit transfers are effective only on the first date of a major cumulative limit period. Each year, the major cumulative limit periods are defined in the annual specifications and management measures according to when the Council schedules its cumulative limit periods for the majority of the groundfish fleet. In 1999 and prior years, trawl and fixed gear landings limit periods have been the same for most species. However, the 2000 annual specifications and management measures set separate cumulative limit periods and cumulative landings limits for limited entry trawl gear and for fixed gear.

Under 50 CFR 660.333, limited entry permits may not be transferred more than once every 12 months, and permit transfers are effective only on the first date of a major cumulative limit period. Each year, the major cumulative limit periods are defined in the annual specifications and management measures according to when the Council schedules its cumulative limit periods for the majority of the groundfish fleet. In 1999 and prior years, trawl and fixed gear landings limit periods have been the same for most species. However, the 2000 annual specifications and management measures set separate cumulative limit periods and cumulative landings limits for limited entry trawl gear and for fixed gear.

In July 1999, about 20 fixed gear permit holders transferred their permits so that the transfers would be effective in time for the August 1999 regular sablefish fishery. Changes to the major cumulative landings limits periods in 2000 meant that the first start date of a major cumulative limit period after July 1, 2000, was September 1, 2000. Thus, permit holders constrained by the regulatory restriction of one transfer every 12 months who had last transferred their permits in July 1999 would have missed the August 2000 fixed gear regular sablefish season, described above. The restriction that requires that permit transfers become effective on the first date of a major cumulative limit period would have prevented these permit holders from transferring their permits until September 1, 2000. Several of these permit holders testified at the June 2000 Council meeting that without changes to these restrictions, they would not be able to participate in the primary sablefish fishery. For participants in this fishery, this opportunity is often a significant portion of their annual incomes. To ensure that these 20 permit holders have the opportunity to transfer their permits and to participate in the regular fixed gear sablefish fishery, the Council recommended at its June 2000 meeting that a major cumulative trip limit period be added at August 1, 2000, for limited entry fixed gear fisheries, for purposes of allowing permit transfers in 2000. This added major cumulative limit period start date reflects the primarily month-long cumulative limit periods for limited entry fixed gear fisheries. The regulatory restriction that limited entry permit transfers may not occur more than once every 12 months would not be altered by this change to major cumulative limit start dates.

NMFS Actions

For the reasons stated here, NMFS concurs with the Council's recommendations and announces the following changes to the 2000 annual management measures (65 FR 221, January 4, 2000, as amended at 65 FR 17805, April 5, 2000, 65 FR 25881, May 4, 2000, 65 FR 31283, May 17, 2000, and 65 FR 33423, May 23, 2000) as follows:

In Section IV, paragraph (15), under A. General Definitions and Provisions, and paragraph (2)(b)(i); under B. Limited Entry Fishery, are revised; under C. Trip Limits in the Open Access Fishery, a new paragraph (3)(a)(ii)(C) is added; and Tables 3, 4, and 5 are revised to read as follows:

IV. NMFS Actions

* * * * *

A. General Definitions and Provisions

* * * * *

(15) Permit transfers. Limited entry permit transfers are to take effect only on the first day of a major cumulative limit period (50 CFR 660.333(c)(1)), which in 2000 are January 1, March 1, May 1, July 1, September 1, and November 1, and are delayed by 15 days (starting on the 16th of a month) for the “B” platoon. For limited entry fixed gear (longline and pot) permits, August 1 is also the first day of a major cumulative limit period.

* * * * *

B. Limited Entry Fishery

* * * * *

BILLING CODE 3510-22-F

BILLING CODE 3510-22-C

(2) * * *

(b) * * *

(i) Regular season. The regular season will begin at 12 noon l.t. on August 6, 2000, and end at noon on August 15, 2000. Pre-season and post-season closures described at 50 CFR 660.323(a)(2) are in effect. The pre-season closure will begin at 12 noon l.t. on August 4, 2000, and end when the regular season begins, at 12 noon l.t. on August 6, 2000. The post-season closure will begin when the regular season ends at noon (local time) on August 15, 2000, and end at 1800 hours (local time) on August 16, 2000. During the regular season, each vessel with a limited entry permit with a sablefish endorsement that is registered for use with that vessel may land up to the cumulative trip limit for the tier to which the permit is assigned. For 2000, the following tier limits are in effect: Tier 1, 81,000 lb (36,741 kg); Tier 2, 37,000 lb (16,783 kg); Tier 3, 21,000 lb (9,525 kg).

* * * * *

C. Trip Limits in the Open Access Fishery

BILLING CODE 3510-22-C

(3) * * *

(a) * * *

(ii) * * *

(C) August 1-December 31, 2000: closed.

Classification

These actions are authorized by the regulations implementing the FMP and the annual specifications and management measures and by the emergency rule published at 65 FR 221 (January 4, 2000) and are based on the most recent data available. The aggregate data upon which these actions are based are available for public inspection at the office of the Administrator, Northwest Region, NMFS (see ADDRESSES) during business hours.

NMFS finds good cause to waive the requirement to provide prior notice and comment on this action pursuant to 5 U.S.C. 553(b)(B) because providing prior notice and opportunity for comment would be impracticable. It would be impracticable because the current cumulative limit period began on July 1, 2000, and affording additional notice and opportunity for public comment would impede the due and timely execution of the agency's function of managing fisheries to achieve OY. The increases to trip limits and the addition of a major cumulative limit period for fixed gear relieve burdens on the public. In addition, the affected public had the opportunity to comment on these actions at the June 27-30, 2000, Council meeting. This action should be implemented as close as possible to the beginning of the cumulative trip limit period to avoid confusion and provide fishers the opportunity to achieve the increased trip limits and arrange for permit transfers. The reduced limits and closures that take effect August 1 are intended to prevent overfishing or to protect overfished species. For these reasons, good cause exists to waive the 30-day delay in effectiveness.

These actions are taken under the authority of 50 CFR 660.323(b)(1) and are exempt from review under Executive Order 12866.

Authority: 16 U.S.C. 1801 et seq.

Dated: July 18, 2000.
Bruce C. Morehead,
Acting Director, Office of Sustainable Fisheries, National Marine Fisheries Service.

[FR Doc. 00-18534 Filed 7-18-00; 8:45 am]

BILLING CODE 3510-22-F